DEPARTMENT OF COMMERCE

International Trade Administration

[A-570-908]

Second Administrative Review of Sodium Hexametaphosphate From the People's Republic of China: Extension of Preliminary Results

AGENCY: Import Administration, International Trade Administration, Department of Commerce

SUMMARY: The Department of Commerce (the “Department”) is extending the time limit for the preliminary results of the administrative review of sodium hexametaphosphate (“sodium hex”) from the People's Republic of China (“PRC”). The review covers the period March 1, 2010, through February 28, 2011.

DATES: Effective Date: February 7, 2012.

FOR FURTHER INFORMATION CONTACT: Paul Walker, AD/CVD Operations, Office IX, Import Administration, International Trade Administration, U.S. Department of Commerce, 14th Street and Constitution Avenue NW., Washington, DC 20230, telephone (202) 482-0413.

Background

On April 27, 2011, the Department published in the Federal Register a notice of initiation of the administrative review of the antidumping duty order on sodium hex from the PRC.¹ On November 29, 2011 the Department extended the deadline for the preliminary results of this review to January 30, 2012.²

¹ See Initiation of Antidumping and Countervailing Duty Administrative Reviews, 76 FR 23545 (April 27, 2011).

² See Second Administrative Review of Sodium Hexametaphosphate from the People's Republic of China: Extension of Preliminary Results, 76 FR 73599 (November 29, 2011).

Statutory Time Limits

In antidumping duty administrative reviews, section 751(a)(3)(A) of the Tariff Act of 1930, as amended (the “Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this administrative review within the original time limit because the Department requires additional time to analyze questionnaire responses and to evaluate surrogate value submissions.

Therefore, the Department is extending the time limit for completion of the preliminary results of the administrative review by 30 days. The preliminary results will now be due no later than March 15, 2012. The final results continue to be due 120 days after the publication of the preliminary results.

We are issuing and publishing this notice in accordance with sections 751(a)(3)(A) and 777(i) of the Act.

Dated: January 25, 2012.
Christian Marsh,
Deputy Assistant Secretary for Antidumping and Countervailing Duty Operations.

[FR Doc. 2012-2750 Filed 2-6-12; 8:45 am]

BILLING CODE 3510-DS-P